DEPARTMENT OF AGRICULTURE

Forest Service

Nez Perce-Clearwater National Forests; Idaho; Nez Perce-Clearwater National Forests Clear Creek Integrated Restoration Project

AGENCY: Forest Service, USDA.

ACTION: Notice of Intent (NOI) to prepare a Supplemental Environmental Impact Statement (SEIS) for the Clear Creek Integrated Restoration Project.

SUMMARY: The U.S. Forest Service is giving notice of its intent to prepare a SEIS for the Clear Creek Integrated Restoration Project on the Moose Creek Ranger District of the Nez Perce-Clearwater National Forests, Idaho. Cheryl Probert, Forest Supervisor, has withdrawn the February 2016 Record of Decision (ROD) for this project. Supervisor Probert plans to prepare a SEIS to further review the project alternatives and analysis, to correct and update information that was presented in the Final Environmental Impact Statement (FEIS), and to consider information that has become available since the FEIS was published in September 2015.

Authority: This NOI is being published pursuant to regulations (40 CFR 1508.22) implementing the procedural provisions of the National Environmental Policy Act (NEPA) of 1969, as amended (42 U.S.C. 4321 et seq.).

Scoping: A NOI published on January 6, 2012 initiated the scoping period for the Clear Creek Integrated Restoration Project. A legal notice advertising the start of a 30-day scoping period was advertised in the Lewiston, Idaho Lewiston Tribune on December 30, 2011. In accordance with 40 CFR 1502.9(c)(4), there will be no scoping conducted for this SEIS. The scope of the Clear Creek Integrated Restoration FEIS established the scope for this SEIS.

The SEIS will be advertised for public comment as required by 40 CFR 1503.1. The Draft SEIS will be announced for public review and comment in the Federal Register, on the Nez Perce-Clearwater National Forests' project Web site, and in the Lewiston, Idaho Lewiston Tribune, as well as other local media.

FOR FURTHER INFORMATION CONTACT: Lois Hill, Environmental Coordinator, (208) 935-4258.

SUPPLEMENTARY INFORMATION: The US Forest Service is announcing its intent to prepare a SEIS for the Clear Creek Integrated Restoration Project. The SEIS will supplement the analysis from the Clear Creek Integrated Restoration FEIS (2015) by providing an updated analysis of the environmental effects. The Clear Creek Integrated Restoration FEIS evaluated the potential effects of four alternatives, including No Action and three action alternatives.

The Nez Perce-Clearwater Forest Supervisor will issue a new ROD after evaluating the SEIS and public comments. An objection period for the new ROD will be provided, consistent with 36 CFR part 218.

Responsible Official and Lead Agency

The USDA Forest Service is the lead agency for this proposal. The Nez Perce-Clearwater Forest Supervisor is the responsible official.

Nature of Decision To Be Made

Whether to adopt the proposed action, in whole or in part, or another alternative; and what mitigation measures and management requirements will be implemented.

Dated: March 17, 2017.
Jeanne M. Higgins,
Associate Deputy Chief, National Forest System.

[FR Doc. 2017-05825 Filed 3-23-17; 8:45 am]

BILLING CODE 3411-15-P